DEPARTMENT OF JUSTICE

Notice Lodging of Proposed Consent Decree Under the Clean Air Act

On December 20, 2012, the Department of Justice lodged a proposed consent decree with the United States District Court for the Eastern District of Kentucky in the lawsuit entitled United States v. Kentucky Utilities Company, Civil Action No. 3:12-cv-00076-CFVT.

The United States filed this lawsuit under the Clean Air Act. The United States' complaint seeks civil penalties and injunctive relief against Kentucky Utilities Company for violations of state and federal opacity, New Source Review, and Title V regulations at the company's electric generating station in Ghent, Kentucky. The proposed consent decree requires Kentucky Utilities to perform injunctive relief, pay a civil penalty of $300,000, and pay $500,000 for a mitigation project to fund the replacement of one or more coal-fired boilers used by public schools in Kentucky through geothermal technologies.

The publication of this notice opens a period for public comment on the proposed consent decree. Comments should be addressed to the Assistant Attorney General, Environment and Natural Resources Division, and should refer to United States v. Kentucky Utilities Company, D.J. Ref. No. 90-5-2-1-08850/1. All comments must be submitted no later than thirty (30) days after the publication date of this notice. Comments may be submitted by email or by mail:

To submit comments: | Send them to:
By email | pubcomment-ees.enrd@usdoj.gov.
By mail | Assistant Attorney General, U.S. DOJ-ENRD, P.O. Box 7611, Washington, DC 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ-ENRD, P.O. Box 7611, Washington, DC 20044-7611.

Please enclose a check or money order for $13.25 (25 cents per page reproduction cost) payable to the United States Treasury.

Henry Friedman,
Assistant Section Chief, Environmental Enforcement Section, Environment and Natural Resources Division.

[FR Doc. 2012-31099 Filed 12-26-12; 8:45 am]

BILLING CODE 4410-15-P